DEPARTMENT OF ENERGY

Federal Energy Regulatory Commission

[Docket No. ER01-2534-001, et al.]

New England Power Pool., et al.; Electric Rate and Corporate Regulation Filings

September 24, 2001.

Take notice that the following filings have been made with the Commission:

1. New England Power Pool

[Docket No. ER01-2534-001]

Take notice that on September 20, 2001, the New England Power Pool (NEPOOL) Participants Committee amended its filing with the Federal Energy Regulatory Commission (Commission) on the Market Rule dated July 6, 2001, which had sought to implement changes to the treatment of Installed Capability (ICAP) transactions in order to facilitate and standardize the trading of ICAP and firm energy products across control area boundaries. The amendment makes no substantive change to NEPOOL's original filing and requests a November 1, 2001 effective date for the Market Rule changes contained therein.

The NEPOOL Participants Committee states that copies of these materials were sent to the New England state governors and regulatory commissions and the Participants in the New England Power Pool.

Comment date: October 11, 2001, in accordance with Standard Paragraph E at the end of this notice.

2. Southern California Edison Company

[Docket No. ER01-2609-001]

Take notice that on September 20, 2001 as directed by letter dated September 13, 2001, from the Federal Energy Regulatory Commission, Southern California Edison Company (SCE) filed supplemental information regarding its filing in Docket No. ER01-2609-000.

Copies of this filing were served upon the Public Utilities Commission of the State of California, California Independent System operator and Wildflower.

Comment date: October 11, 2001, in accordance with Standard Paragraph E at the end of this notice.

3. Colton Power L.P.

[Docket No. ER01-2644-001]

Take notice that on September 19, 2001, Colton Power L.P. (Applicant) tendered for filing with the Federal Energy Regulatory Commission (Commission), an amended market-based rate schedule under Section 205 of the Federal Power Act, in order to comply with the Commission's Letter Order issued on September 18, 2001 in Docket No. ER01-2644-000.

Comment date: October 10, 2001, in accordance with Standard Paragraph E at the end of this notice.

4. American Electric Power Service Corporation

[Docket No. ER01-3033-001]

Take notice that on September 21, 2001, the American Electric Power Service Corporation (AEPSC), amended its filing with the Federal Energy Regulatory Commission (Commission), in Docket No. ER01-3033-000 to correct Inconsistencies with Order No. 614 issued in Docket No. RM99-12-000. Tendered for filing are executed Firm and Non-Firm Point-to-Point Transmission (PTP) Service Agreements for Split Rock Energy LLC, a Firm PTP Service Agreement for PSEG Energy Resources & Trade LLC, and a Revised Firm PTP Service Agreement for Exelon Generation—Power Team for a long-term PTP reservation. AEPSC also filed Network Integration Transmission Service (NTS) Agreements for energy suppliers in retail supplier choice programs, i.e., AES NewEnergy, Inc. and MidAmerican Energy Company (MECR), and Revised NTS Agreements for Wabash Valley Power Association, Inc. (WVPA), and for American Electric Power Service Corporation—Wholesale Power Merchant Organization (AEPM). All of these agreements are pursuant to the AEP Companies' Open Access Transmission Service Tariff (OATT) that has been designated as the Operating Companies of the American Electric Power System FERC Electric Tariff Second Revised Volume No. 6.

AEPSC requests waiver of notice to permit the Revised NTS Service Agreement for WVPA to be made effective on and after May 16, 2001, and the Revised NTS Service Agreement for AEPM to be made effective for service on and after August 1, 2001. An effective date of September 1, 2001 is requested for all other agreements filed herewith.

Pursuant to a request by El Paso Merchant Energy, L.P., formerly Engage Energy US, L.P., AEPSC also filed a Notice of Cancellation of firm and non-firm service agreements executed April 1, 1998, under AEP Companies' FERC Electric Tariff Original Volume No. 4.

A copy of the filing was served upon the Parties and the state utility regulatory commissions of Arkansas, Indiana, Kentucky, Louisiana, Michigan, Ohio, Oklahoma, Tennessee, Texas, Virginia and West Virginia.

Comment date: October 12, 2001, in accordance with Standard Paragraph E at the end of this notice.

5. Duke Energy Oakland, LLC

[Docket No. ER01-3034-001]

Take notice that on September 20, 2001, Duke Energy Oakland, L.L.C. (DEO) tendered for filing with the Federal Energy Regulatory Commission (Commission), two sets of substitute sheets to correct omissions from their September 10, 2001 filing in this proceeding. Specifically these corrections are to Table B-6 of Schedule B of its Reliability Must Run Service Agreement (RMR Agreement) with the California Independent System Operator (CAISO). DEO requests effective dates of October 1, 2000, and January 1, 2001, respectively, for its two revisions.

Copies of the filing have been served upon the CAISO, PG&E and the California Public Utilities Commission.

Comment date: October 11, 2001, in accordance with Standard Paragraph E at the end of this notice.

6. Florida Power & Light Company

[Docket No. ER01-3077-000]

On September 19, 2001, Florida Power & Light Company (FPL) filed with the Federal Energy Regulatory Commission (Commission), a Service Agreement for Entergy-Koch Trading, LP for service pursuant to FPL's Market Based Rates Tariff. FPL requests that the Service Agreement be made effective on August 20, 2001.

Comment date: October 10, 2001, in accordance with Standard Paragraph E at the end of this notice.

7. American Electric Power Service Corporation

[Docket No. ER01-3078-000]

Take notice that on September 20, 2001, the American Electric Power Service Corporation (AEPSC) tendered for filing with the Federal Energy Regulatory Commission (Commission), a Service Agreement with Cleveland Public Power, City of Cleveland, Department of Public Utilities (CPP) for a transaction exceeding one year in length by the AEP Companies under the Wholesale Market Tariff of the AEP Operating Companies (Power Sales Tariff). The Power Sales Tariff was accepted for filing effective October 10, 1997 and has been designated AEP Operating Companies' FERC Electric Tariff Original Volume No. 5, Effective October 10, 1997 in Docket ER 97-4143-00 (Wholesale Tariff of the AEP Operating Companies) and FERC Electric Tariff Original Volume No. 8, Effective January 8, 1998 in Docket ER 98-542-000 (Market-Based Rate Power Sales Tariff of the CSW Operating Companies). AEPSC respectfully requests waiver of notice to permit this Service Agreement to be made effective on or prior to September 1, 2001.

A copy of the filing was served upon the Parties and the State Utility Regulatory Commissions of Arkansas, Indiana, Kentucky, Louisiana, Michigan, Ohio, Oklahoma, Tennessee, Texas, Virginia and West Virginia.

Comment date: October 11, 2001, in accordance with Standard Paragraph E at the end of this notice.

8. Illinois Power Company

[Docket No. ER01-3079-000]

Take notice that on September 19 , 2001, Illinois Power Company (Illinois Power), filed with the Federal Energy Regulatory Commission (Commission), a Second Revised Network Integration Transmission Service (including a Network Operating Agreement) entered into with Dynegy Power Marketing, Incorporated (DPM) pursuant to Illinois Power's Open Access Transmission Tariff. Illinois Power requests an effective date of August 29, 2001 for the Agreement and accordingly seeks a waiver of the Commission's notice requirement. Illinois Power states that a copy of this filing has been sent to DPM.

Comment date: October 11, 2001, in accordance with Standard Paragraph E at the end of this notice.

9. Public Service Company of New Mexico

[Docket No. ER01-3080-000]

Take notice on September 20, 2001, Public Service Company of New Mexico (PNM) submitted for filing with the Federal Energy Regulatory Commission (Commission), two executed service agreements with Farmington Electric Utility System, under the terms of PNM's Open Access Transmission Tariff. One agreement is for non-firm point-to-point transmission service and one agreement is for short-term firm point-to-point transmission service. PNM requests the date of the agreement, August 27, 2001, as the effective date for the agreements. PNM's filing is available for public inspection at its offices in Albuquerque, New Mexico.

Copies of the filing have been sent to Farmington Electric Utility System, and to the New Mexico Public Regulation Commission.

Comment date: October 11, 2001, in accordance with Standard Paragraph E at the end of this notice.

10. Public Service Company of New Mexico

[Docket No. ER01-3081-000]

Take notice that on September 20, 2001, Public Service Company of New Mexico (PNM) submitted for filing with the Federal Energy Regulatory Commission (Commission), two executed service agreements with Conoco Gas & Power Marketing, under the terms of PNM's Open Access Transmission Tariff. One agreement is for non-firm point-to-point transmission service and one agreement is for short-term firm point-to-point transmission service. PNM requests the date of the agreement, August 24, 2001, as the effective date for the agreements. PNM's filing is available for public inspection at its offices in Albuquerque, New Mexico.

Copies of the filing have been sent to Conoco Gas & Power Marketing, and to the New Mexico Public Regulation Commission.

Comment date: October 11, 2001, in accordance with Standard Paragraph E at the end of this notice.

11. American Transmission Company LLC

[Docket No. ER01-3082-000]

Take notice that on September 19, 2001, American Transmission Company LLC (ATCLLC) tendered for filing with the Federal Energy Regulatory Commission (Commission), Firm and Non-Firm Point-to-Point Service Agreements for Consumers Energy Company d/b/a Consumers Energy Traders. ATCLLC requests an effective date of September 13, 2001.

Comment date: October 10, 2001, in accordance with Standard Paragraph E at the end of this notice.

12. Western System Coordinating Council

[Docket No. ER01-3085-000]

Take notice that on September 20, 2001, the Western Systems Coordinating Council (WSCC) tendered for filing with the Federal Energy Regulatory Commission (Commission), certain revisions to its Unscheduled Flow Mitigation Plan (Plan) intended to increase the numbers of available hours of coordinated operations under the Plan, and to update other provisions of the Plan. The WSCC requests an effective date of October 1, 2001 for these changes.

Copies of this filing were served on all members of the WSCC and all affected state commissions.

Comment date: October 11, 2001, in accordance with Standard Paragraph E at the end of this notice.

13. ISO New England Inc.

[Docket No. ER01-3086-000]

Take notice that on September 20, 2001, ISO New England Inc. (the ISO) submitted for filing with the Federal Energy Regulatory Commission (Commission), amendments under Section 205 of the Federal Power Act to the Special Interim Market Rule originally filed with the Commission on November 1, 2000.

Copies of said filing have been served upon the Secretary of the NPC, the Participants in the New England Power Pool, and upon the New England State Governors and Regulatory Commissions.

Comment date: October 11, 2001, in accordance with Standard Paragraph E at the end of this notice.

14. South Carolina Electric & Gas Company

[Docket No. ER01-3087-000]

Take notice that on September 19, 2001, South Carolina Electric & Gas Company (SCE&G) submitted to the Federal Energy Regulatory Commission (Commission), a service agreement establishing North Carolina Electric Membership Corporation as a customer under the terms of SCE&G's Negotiated Market Sales Tariff.

SCE&G requests an effective date of August 8, 2001 to coincide with the first day service was provided under the agreement; alternatively, SCE&G requests an effective date no later than September 20, 2001. Accordingly, SCE&G requests waiver of the Commission's notice requirements. Copies of this filing were served upon North Carolina Electric Membership Corporation and the South Carolina Public Service Commission.

Comment date: October 10, 2001, in accordance with Standard Paragraph E at the end of this notice.

15. Central Hudson Gas & Electric Corporation

[Docket No. ER01-3088-000]

Take notice that on September 19, 2001, Central Hudson Gas and Electric Corporation (Central Hudson), tendered for filing with the Federal Energy Regulatory Commission (Commission), revisions to its Rate Schedule FERC No. 201 which sets forth the terms and charges for transmission facilities provided by the Company to Consolidated Edison Company of New York, Inc. (Con Edison) and Niagara Mohawk Power Corporation (Niagara Mohawk) for the transmission of output from the Roseton Generating Station.

The aforementioned revisions address the development of actual annual costs for 2000 which amounted to $176,930 to Con Edison and $360,390 to Niagara Mohawk and are the basis for charges for the period January 1, 2001 through, and including, January 30, 2001.

Central Hudson requests waiver on the notice requirements set forth in 18 CFR 35.11 of the Regulations to permit charges to become effective January 1, 2001 as agreed to by the parties.

Central Hudson states that a copy of its filing was served on Con Edison, Niagara Mohawk and the State of New York Public Service Commission.

Comment date: October 10, 2001, in accordance with Standard Paragraph E at the end of this notice.

16. PacifiCorp

[Docket No. ER01-3089-000]

Take notice that on September 20, 2001, PacifiCorp tendered for filing with the Federal Energy Regulatory Commission (Commission or FERC), in accordance with 18 CFR 35 of the Commission's Rules and Regulations, PacifiCorp's FERC Electric Tariff, Third Revised Volume No. 11 (Tariff). The Tariff is being revised only to change the pagination.

Copies of this filing were supplied to the Washington Utilities and Transportation Commission and the Public Utility Commission of Oregon.

Comment date: October 11, 2001, in accordance with Standard Paragraph E at the end of this notice.

17. American Transmission Systems, Inc.

[Docket No. ER01-3090-000]

Take notice that on September 21, 2001, American Transmission Systems, Inc., filed with a Service Agreement to provide Non-Firm Point-to-Point Transmission Service for Calpine Energy Services, L.P., the Transmission Customer. Services are being provided under the American Transmission Systems, Inc. Open Access Transmission Tariff submitted for filing by the Federal Energy Regulatory Commission in Docket No. ER99-2647-000. The proposed effective date under the Service Agreement is September 20, 2001 for the above mentioned Service Agreement in this filing.

Comment date: October 12, 2001, in accordance with Standard Paragraph E at the end of this notice.

18. American Transmission Systems, Inc.

[Docket No. ER01-3091-000]

Take notice that on September 21, 2001, American Transmission Systems, Inc. filed a Service Agreement to provide Firm Point-to-Point Transmission Service for Calpine Energy Services, L.P., the Transmission Customer. Services are being provided under the American Transmission Systems, Inc. Open Access Transmission Tariff submitted for filing by the Federal Energy Regulatory Commission in Docket No. ER99-2647-000. The proposed effective date under the Service Agreement is September 20, 2001 for the above mentioned Service Agreement in this filing.

Comment date: October 12, 2001, in accordance with Standard Paragraph E at the end of this notice.

19. Wisvest-Connecticut, LLC and NRG Connecticut Power Assets LLC, NRG Connecticut Power Assets LLC, NRG Connecticut Power Assets LLC

[Docket Nos. EC01-70-000 and ER01-1259-000 (Consolidated), EG01-121-000, EG01-185-000 (Not Consolidated)]

Take notice that on September 21, 2001, Wisvest-Connecticut, LLC and NRG Connecticut Power Assets LLC (NRG), notified the Commission of the withdrawal of their application for authority under Section 203 of the Federal Power Act to dispose of jurisdictional facilities, filed with the Commission in Docket No. EC01-70-000 on February 16, 2001, as subsequently amended.

In addition, NRG notified the Commission of the withdrawal of its application for market-based rate authority under Section 205 of the Federal Power Act, which was filed with the Commission on February 20, 2001 in Docket No. ER01-1259-000, as subsequently amended. Furthermore, in light of the above, pursuant to Section 365.8 of the Commission's regulations, NRG also notified the Commission of this material change in facts regarding NRG's application for exempt wholesale generator (“EWG”) filed with the Commission on February 8, 2001 in Docket No. EG01-121-000, as subsequently amended, redocketed as Docket No. EG01-185-000, and ultimately approved by operation of law.

Comment date: October 12, 2001, in accordance with Standard Paragraph E at the end of this notice.

20. Dominion Dresden Services Company, Inc.

[Docket No. EG01-331-000]

Take notice that on September 20, 2001, Dominion Dresden Services Company, Inc. (DDSA) filed with the Federal Energy Regulatory Commission an application for determination of exempt wholesale generator status pursuant to Part 365 of the Commission's regulations.

DDSA, a Delaware corporation, is a wholly owned subsidiary of Dominion Energy, Inc. (DEI) also a Virginia corporation. DEI is a wholly owned subsidiary of Dominion Resources, Inc., a Virginia corporation. DDSA will be directly and exclusively engaged in the business of operating and selling electricity at wholesale from an approximately 668 MW (nominal) generating facility currently under construction near Dresden, Ohio.

Comment date: October 15, 2001, in accordance with Standard Paragraph E at the end of this notice. The Commission will limit its consideration of comments to those that concern the adequacy or accuracy of the application.

21. Dominion Armstrong Services Company, Inc.

[Docket No. EG01-332-000]

Take notice that on September 20, 2001, Dominion Armstrong Services Company, Inc. (“DASA”) filed with the Federal Energy Regulatory Commission an application for determination of exempt wholesale generator status pursuant to Part 365 of the Commission's regulations.

DASA, a Delaware corporation, is a wholly owned subsidiary of Dominion Energy, Inc. (DEI) also a Virginia corporation. DEI is a wholly owned subsidiary of Dominion Resources, Inc., a Virginia corporation. DASA will be directly and exclusively engaged in the business of operating and selling electricity at wholesale from an approximately 660 MW (nominal) generating facility currently under construction in Armstrong County, Pennsylvania.

Comment date: October 15, 2001, in accordance with Standard Paragraph E at the end of this notice. The Commission will limit its consideration of comments to those that concern the adequacy or accuracy of the application.

22. Dominion Troy Services Company, Inc.

[Docket No. EG01-333-000]

Take notice that on September 20, 2001, Dominion Troy Services Company, Inc. (DTSA) tendered for filing with the Federal Energy Regulatory Commission, (Commission) an application for determination of exempt wholesale generator status pursuant to Part 365 of the Commission's regulations.

Comment date: October 15, 2001, in accordance with Standard Paragraph E at the end of this notice. The Commission will limit its consideration of comments to those that concern the adequacy or accuracy of the application.

23. Dominion Pleasants Services Company, Inc.

[Docket No. EG01-334-000]

Take notice that on September 24, 2001, Dominion Pleasants Services Company Inc. (DPSA) filed with the Federal Energy Regulatory Commission an application for determination of exempt wholesale generator status pursuant to Part 365 of the Commission's regulations.

DPSA, a Delaware corporation, is a wholly owned subsidiary of Dominion Energy, Inc. (DEI) also a Virginia corporation. DEI is a wholly owned subsidiary of Dominion Resources, Inc., a Virginia corporation. DPSA will be directly and exclusively engaged in the business of operating and selling electricity at wholesale from an approximately 335 MW generating facility currently under construction in Pleasants County, West Virginia.

Comment date: October 15, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24305 Filed 9-27-01; 8:45 am]

BILLING CODE 6717-01-M